DEPARTMENT OF JUSTICE

Notice of Lodging of Proposed Modification of Amended Consent Decree Under The Clean Air Act

On July 8, 2014, the Department of Justice lodged a proposed Third Amended Consent Decree with the United States District Court for the Eastern District of Wisconsin in the lawsuit entitled United States and Michigan Department of Environmental Quality, Plaintiffs, and Clean Wisconsin, Sierra Club, and Citizens' Utility Board, Intervenors, v. Wisconsin Electric Power Company, Civil Action No. 03-c-0371.

Generally, the proposed modifications to the Decree are designed: (1) To accommodate the voluntary decision of the Defendant, Wisconsin Electric Power Company (“WE Energies,” “WE” or “Defendant”), to convert all four coal-fired boilers at the Valley Generating Station (“Valley Station”), located in Milwaukee, Wisconsin, from coal to natural gas; and (2) to simplify the process of terminating the Third Amended Decree after December 31, 2015. The coal-to-natural-gas conversion will provide significant emission reductions at the Valley Station, and the termination-related changes will provide greater finality for the Defendant while also ensuring that the Decree's provisions remain enforceable in the future through federally enforceable state operating permits.

The publication of this notice opens a period for public comment on Proposed Third Amended Consent Decree. Comments should be addressed to the Acting Assistant Attorney General, Environment and Natural Resources Division, and should refer to United States et al. v. Wisconsin Electric Power Company, D.J. Ref. No. 90-5-2-1-07493. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Joint Stipulation to Modify Section XXI of the Amended Consent Decree may be examined and downloaded at this Justice Department Web site: http://www.usdoj.gov/enrd/Consent_Decrees.html. We will provide a paper copy of the Proposed Third Amended Consent Decree upon written request and payment of reproduction costs. Please mail your request and payment to: Consent Decree Library, U.S. DOJ—ENRD, P.O. Box 7611, Washington, DC 20044-7611.

Please enclose a check or money order for $21.75 (25 cents per page reproduction cost) payable to the United States Treasury.

Thomas P. Carroll,
Assistant Section Chief, Environmental Enforcement Section, Environment and Natural Resources Division.

[FR Doc. 2014-16334 Filed 7-11-14; 8:45 am]

BILLING CODE 4410-15-P